DEPARTMENT OF AGRICULTURE

Forest Service

[Docket No.

Notice of Resource Advisory Committee Meeting

AGENCY: Southwest Idaho Resource Advisory Committee, Boise, ID, Forest Service, USDA.

ACTION: Notice of Meeting.

SUMMARY: Pursuant to the authorities in the Federal Advisory Committee Act (Public Law 92-463) and under the Secure Rural Schools and Community Self-Determination Act of 2000 (Public Law 106-393) the Boise and Payette National Forests' Southwest Idaho Resource Advisory Committee will meet Wednesday, April 17, 2002 in Boise, Idaho for a business meeting. The meeting is open to the public.

SUPPLEMENTARY INFORMATION: The business meeting on April 17, begins at 10:30 a.m., at the Idaho Counties Risk Management Program Building, 3100 South Vista Avenue, Boise, Idaho. Agenda topics will include review and approval of project proposals and an open public forum.

FOR FURTHER INFORMATION CONTACT: Randy Swick, McCall District Ranger and Designated Federal Officer, at (208) 634-0400.

Dated: March 26, 2002.
Robert Giles,
Acting Forest Supervisor, Payette National Forest.

[FR Doc. 02-8049 Filed 4-2-02; 8:45 am]

BILLING CODE 3410-11-M